DEPARTMENT OF TRANSPORTATION

Federal Aviation Administration

14 CFR Part 95

[Docket No. 31633; Amdt. No. 588]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, November 27, 2025.

FOR FURTHER INFORMATION CONTACT: Romana Wolf, Manager (Acting), Flight Technologies and Procedures Division, Office of Safety Standards, Flight Standards Service, Aviation Safety, Federal Aviation Administration. Mailing Address: FAA Mike Monroney Aeronautical Center, Flight Procedures and Airspace Group, 6500 South MacArthur Blvd., STB Annex, Bldg. 26, Room 217, Oklahoma City, OK 73099. Telephone (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on October 27, 2025.
Romana Wolf,
Manager (Acting), Flight Technologies and Procedures Division, Office of Safety Standards, Flight Standards Service, Aviation Safety, Federal Aviation Administration.

Adoption of the Amendment

Accordingly, pursuant to the authority delegated to me by the Administrator, part 95 of the Federal Aviation Regulations (14 CFR part 95) is amended as follows effective at 0901 UTC, 27 Nov 2025.

PART 95—IFR Altitudes

1. The authority citation for part 95 continues to read as follows:

Authority: 49 U.S.C. 106(g), 40103, 40113 and 14 CFR 11.49(b)(2).

2. Part 95 is amended to read as follows:

Revisions to IFR Altitudes & Changeover Point
[Amendment 588 effective date November 27, 2025]
From | To | MEA | MAA
§ 95.3000 Low Altitude RNAV Routes
§ 95.3221 RNAV Route T221 Is Amended To Read in Part
MAZIE, PA FIX | * ALLENTOWN, PA VORTAC | ** 3000 | 17500
* 3400—MCA ALLENTOWN, PA VORTAC, N BND
** 2300—MOCA
ALLENTOWN, PA VORTAC | * LAAYK, PA FIX | * 4700 | 17500
* 4700—MCA LAAYK, PA FIX, S BND
§ 95.3414 RNAV Route T414 Is Amended by Adding
AYARA, VA WP | AIROW, VA WP | 3600 | 17500
AIROW, VA WP | SWARM, VA FIX | 3100 | 17500
SWARM, VA FIX | GORDONSVILLE, VA VORTAC | 3300 | 17500
Is Amended To Delete
AYARA, VA WP | BOJAR, VA FIX | 3600 | 17500
§ 95.3461 RNAV Route T461 Is Amended To Read
DEER PARK, NY VOR/DME | BELTT, NY FIX | 2000 | 6000
BELTT, NY FIX | EEGOR, CT WP | 1800 | 6000
EEGOR, CT WP | DENNA, CT FIX | 2100 | 17500
DENNA, CT FIX | FZOOL, CT FIX | 2400 | 17500
FZOOL, CT FIX | LOVES, CT FIX | 3000 | 17500
LOVES, CT FIX | DEEDE, NY FIX | 3000 | 17500
DEEDE, NY FIX | PAWLN, NY WP | 3100 | 17500
PAWLN, NY WP | ATHOS, NY FIX | 3100 | 17500
ATHOS, NY FIX | GROUP, NY FIX | 3000 | 17500
GROUP, NY FIX | ALBANY, NY VORTAC | 2800 | 17500
§ 95.3463 RNAV Route T463 Is Amended To Read
VADDR, NY WP | DUNBO, NY FIX | 2700 | 17500
DUNBO, NY FIX | EEGOR, CT WP | 2000 | 17500
EEGOR, CT WP | MOONI, CT FIX | 3000 | 17500
MOONI, CT FIX | * STUBY, CT FIX | 3300 | 17500
* 3600—MCA STUBY, CT FIX, N BND
STUBY, CT FIX | BOWAN, NY FIX | 4900 | 17500
BOWAN, NY FIX | HIDAL, NY FIX | 4900 | 17500
HIDAL, NY FIX | CANAN, NY FIX | 4100 | 17500
CANAN, NY FIX | CAMBRIDGE, NY VOR/DME | 4700 | 17500
CAMBRIDGE, NY VOR/DME | * ENSON, VT FIX | 4600 | 17500
* 3300—MCA ENSON, VT FIX, S BND
ENSON, VT FIX | BURLINGTON, VT VOR/DME | 3000 | 17500
§ 95.3645 RNAV Route T645 Is Added To Read
U.S. CANADIAN BORDER | * PUDGE, WA WP | 3000 | 17500
* 5000—MCA PUDGE, WA WP, NE BND
PUDGE, WA WP | ROSSS, WA WP | 6000 | 17500
ROSSS, WA WP | U.S. CANADIAN BORDER | 6000 | 17500
§ 95.3705 RNAV Route T705 Is Amended by Adding
BELTT, NY FIX | EEGOR, CT WP | 1800 | 17500
EEGOR, CT WP | DENNA, CT FIX | 2100 | 17500
Is Amended To Delete
BELTT, NY FIX | BRIDGEPORT, CT VOR/DME | 1800 | 17500
BRIDGEPORT, CT VOR/DME | DENNA, CT FIX | 2100 | 17500
§ 95.4000 High Altitude RNAV Routes
§ 95.4022 RNAV Route Q22 Is Amended To Read in Part
BESSI, NJ FIX | MELMN, NJ WP | * 18000 | 45000
* 18000—GNSS MEA
* DME/DME/IRU MEA
MELMN, NJ WP | JOEPO, NJ WP | * 18000 | 45000
* 18000—GNSS MEA
* DME/DME/IRU MEA
§ 95.4064 RNAV Route Q64 Is Amended by Adding
SAWED, VA WP | KALDA, VA WP | * 18000 | 45000
* 18000—GNSS MEA
* DME/DME/IRU MEA
Is Amended To Read in Part
CATLN, AL WP | DARRL, SC WP | * 18000 | 45000
* 18000—GNSS MEA
* DME/DME/IRU MEA
DARRL, SC WP | TAR RIVER, NC VORTAC | * 18000 | 45000
* 18000—GNSS MEA
* DME/DME/IRU MEA

From | To | MEA
§ 95.6001 Victor Routes—U.S.
§ 95.6023 VOR Federal Airway V23 Is Amended To Delete
PAINE, WA VOR/DME | EGRET, WA FIX | 4500 MAA—17500
EGRET, WA FIX | ACORD, WA FIX | 3500 MAA—17500
ACORD, WA FIX | WHATCOM, WA VORTAC | * 3000
* 2200—MOCA |  | MAA—17500
WHATCOM, WA VORTAC | U.S. CANADIAN BORDER | 3000 MAA—17500
§ 95.6054 VOR Federal Airway V54 Is Amended by Adding
WASHO, AR FIX | MUFRE, AR FIX | * 3500
* 1800—MOCA |  | MAA—17500
MUFRE, AR FIX | LITTLE ROCK, AR VORTAC | * 6000
* 1900—MOCA |  | MAA—17500
Is Amended To Delete
WASHO, AR FIX | CANEY, AR FIX | * 3500
* 1800—MOCA |  | MAA—17500
CANEY, AR FIX | MALVE, AR FIX | * 3500
* 1900—MOCA |  | MAA—17500
MALVE, AR FIX | LITTLE ROCK, AR VORTAC | 2000 MAA—17500
§ 95.6055 VOR Federal Airway V55 Is Amended To Delete
GIPPER, MI VORTAC | KEELER, MI VOR/DME | * 4000
* 2300—MOCA |  | MAA—17500
KEELER, MI VOR/DME | PULLMAN, MI VOR/DME | 4000 MAA—17500
§ 95.6070 VOR Federal Airway V70 Is Amended To Read in Part
EUFAULA, AL VORTAC | VIENNA, GA VORTAC | UNUSABLE
§ 95.6074 VOR Federal Airway V74 Is Amended To Read in Part
OLLAS, AR FIX | MAUME, AR FIX | * 5500
* 2500—MOCA |  | MAA—17500
§ 95.6100 VOR Federal Airway V100 Is Amended To Delete
NORTHBROOK, IL VOR/DME | * MINCE, MI FIX | 2500
* 3500—MRA
|  | MAA—17500
MINCE, MI FIX | MUSKY, MI FIX | 2500 MAA—17500
MUSKY, MI FIX | KEELER, MI VOR/DME | MAA—17500
§ 95.6124 VOR Federal Airway V124 Is Amended by Adding
LITTLE ROCK, AR VORTAC | HILLE, AR FIX | * 5000
* 1700—MOCA |  | MAA—17500
Is Amended To Delete
LITTLE ROCK, AR VORTAC | TAFTE, AR FIX | * 4000
* 1700—MOCA |  | MAA—17500
TAFTE, AR FIX | * HILLE, AR FIX | ** 6000
* 6000—MRA |  | MAA—17500
** 1600—MOCA
HILLE, AR FIX | GILMORE, AR VOR/DME | * 4000
* 1700—MOCA |  | MAA—17500
§ 95.6129 VOR Federal Airway V129 Is Amended To Read in Part
EAU CLAIRE, WI VORTAC | DULUTH, MN VORTAC | * 6000
* 3200—GNSS MEA |  | MAA—17500
§ 95.6162 VOR Federal Airway V162 Is Amended To Read in Part
BOBSS, PA FIX | EAST TEXAS, PA VOR/DME | UNUSABLE
§ 95.6165 VOR Federal Airway V165 Is Amended To Delete
PENN COVE, WA VOR/DME | ISLND, WA FIX | * 5000
* 1500—MOCA |  | MAA—17500
ISLND, WA FIX | CANDL, WA FIX | * 5000
* 2800—MOCA |  | MAA—17500
CANDL, WA FIX | WHATCOM, WA VORTAC | * 4000
* 1900—MOCA |  | MAA—17500
Is Amended To Read in Part
BINNZ, NV FIX | CHOIR, CA FIX | UNUSABLE
§ 95.6210 VOR Federal Airway V210 Is Amended To Read in Part
WILL ROGERS, OK VORTAC | * MINGG, OK FIX | ** 4000
* 4500—MRA |  | MAA—17500
** 3100—MOCA
MINGG, OK FIX | OKMULGEE, OK VOR/DME | * 4500
* 2600—MOCA |  | MAA—17500
* 4000—GNSS MEA
§ 95.6252 VOR Federal Airway V252 Is Amended To Read in Part
ROBBINSVILLE, NJ VORTAC | DUPONT, DE VORTAC | 2200 MAA—17500
§ 95.6277 VOR Federal Airway V277 Is Amended To Delete
FORT WAYNE, IN VORTAC | BAGEL, IN FIX
| SE BND
| NW BND
|  | MAA—17500
BAGEL, IN WP | KEELER, MI VOR/DME | 4000 MAA—17500
§ 95.6305 VOR Federal Airway V305 Is Amended To Read in Part
LITTLE ROCK, AR VORTAC | WALNUT RIDGE, AR VORTAC | * 4000
* 2300—MOCA |  | MAA—17500
§ 95.6349 VOR Federal Airway V349 Is Amended To Delete
WHATCOM, WA VORTAC | U.S. CANADIAN BORDER | * 3000
* 2600—MOCA |  | MAA—17500
§ 95.6526 VOR Federal Airway V526 Is Amended To Read in Part
MAPER, MI FIX | GIPPER, MI VORTAC
| SE BND
| NW BND
|  | MAA—17500
§ 95.6532 VOR Federal Airway V532 Is Amended To Delete
LITTLE ROCK, AR VORTAC | * PARON, AR FIX | 2600
* 3500—MRA |  | MAA—17500
PARON, AR FIX | * GATZY, AR FIX | ** 3700
* 4800—MCA GATZY, AR FIX, W BND |  | MAA—17500
** 3100—MOCA
GATZY, AR FIX | * BLURB, AR FIX | ** 5500
* 5500—MCA BLURB, AR FIX, E BND |  | MAA—17500
** 3200—MOCA
BLURB, AR FIX | BLIMP, AR FIX
| NW BND
| SE BND
* 3700—MOCA |  | MAA—17500
BLIMP, AR FIX | FORT SMITH, AR VORTAC | * 2900
* 2400—MOCA |  | MAA—17500
§ 95.6534 VOR Federal Airway V534 Is Amended To Delete
LITTLE ROCK, AR VORTAC | BIBBS, AR FIX | 3500 MAA—17500
BIBBS, AR FIX | HAAWK, AR FIX | * 4500
* 2500—MOCA |  | MAA—17500
HAAWK, AR FIX | * SCRAN, AR FIX | ** 4500
* 6500—MRA
** 3100—MOCA |  | MAA—17500
SCRAN, AR FIX | FORT SMITH, AR VORTAC
| W BND
| E BND
* 3000—MOCA |  | MAA—17500
§ 95.6573 VOR Federal Airway V573 Is Amended To Delete
HOT SPRINGS, AR VOR/DME | LITTLE ROCK, AR VORTAC | 3000 MAA—17500
§ 95.6583 VOR Federal Airway V583 Is Amended To Read in Part
COLLEGE STATION, TX VORTAC | LEONA, TX VORTAC | * 4000
* 2100—MOCA |  | MAA—17500
§ 95.6350 Alaska VOR Federal Airway V350 Is Amended To Delete
DILLINGHAM, AK VOR/DME | TOGIAK, AK NDB/DME | 5000 MAA—17500
TOGIAK, AK NDB/DME | BAFIN, AK FIX | 5400 MAA—17500
BAFIN, AK FIX | BETHEL, AK VORTAC
| SE BND
| NW BND
|  | MAA—17500

From | To | MEA | MAA
§ 95.7001 Jet Routes
§ 95.7006 Jet Route J6 Is Amended To Delete
WILL ROGERS, OK VORTAC | LITTLE ROCK, AR VORTAC | 18000 | 45000
§ 95.7013 Jet Route J13 Is Amended To Read in Part
ALBUQUERQUE, NM VORTAC | ALAMOSA, CO VORTAC | * 18000 | 45000
* MEA IS ESTABLISHED WITH A GAP IN NAVIGATION SIGNAL COVERAGE
ALAMOSA, CO VORTAC | FALCON, CO VORTAC | * 26000 | 45000
* MEA IS ESTABLISHED WITH A GAP IN NAVIGATION SIGNAL COVERAGE
§ 95.7014 Jet Route J14 Is Amended To Read in Part
WILL ROGERS, OK VORTAC | LITTLE ROCK, AR VORTAC | * 21000 | 45000
* 18000—GNSS MEA
LITTLE ROCK, AR VORTAC | VULCAN, AL VORTAC | * 22000 | 45000
* 18000—GNSS MEA
§ 95.7044 Jet Route J44 Is Amended To Read in Part
RATTLESNAKE, NM VORTAC | ALAMOSA, CO VORTAC | 21000 | 45000
ALAMOSA, CO VORTAC | FALCON, CO VORTAC | * 26000 | 45000
* MEA IS ESTABLISHED WITH A GAP IN NAVIGATION SIGNAL COVERAGE
§ 95.7066 Jet Route J66 Is Amended To Read in Part
BONHAM, TX VORTAC | MEEOW, AR FIX | * 20000 | 45000
* 18000—GNSS MEA
MEEOW, AR FIX | LITTLE ROCK, AR VORTAC | 18000 | 45000
§ 95.7096 Jet Route J96 Is Amended To Delete
CIMARRON, NM VORTAC | GARDEN CITY, KS VORTAC | 18000 | 45000
§ 95.7101 Jet Route J101 Is Amended To Read in Part
LUFKIN, TX VORTAC | LITTLE ROCK, AR VORTAC | * 18000 | 45000
* MEA IS ESTABLISHED WITH A GAP IN NAVIGATION SIGNAL COVERAGE
§ 95.7110 Jet Route J110 Is Amended To Read in Part
RATTLESNAKE, NM VORTAC | ALAMOSA, CO VORTAC | 21000 | 45000
§ 95.7126 Jet Route J126 Is Amended To Read in Part
ROGUE VALLEY, OR VORTAC | EUGENE, OR VORTAC | 22000 | 45000
§ 95.7131 Jet Route J131 Is Amended To Read in Part
LITTLE ROCK, AR VORTAC | POCKET CITY, IN VORTAC | * 23000 | 45000
* 18000—GNSS MEA
§ 95.7534 Jet Route J534 Is Amended To Delete
IWACK, WA FIX | WHATCOM, WA VORTAC | 18000 | 45000
WHATCOM, WA VORTAC | U.S. CANADIAN BORDER | 18000 | 45000

Airway segment: From | Airway segment: To | Changeover points: Distance | Changeover points: From
§ 95.8003 VOR Federal Airway Changeover Point Is Amended To Delete Changeover Point
WHATCOM, WA VORTAC | VANCOUVER, CA VOR/DME | 10 | WHATCOM
V124 Is Amended To Modify Changeover Point
HOT SPRINGS, AR VOR/DME | LITTLE ROCK, AR VORTAC | 20 | HOT SPRINGS
V165 Is Amended To Delete Changeover Point
MUSTANG, NV VORTAC | LAKEVIEW, OR VORTAC | 70 | MUSTANG
V277 Is Amended To Delete Changeover Point
FORT WAYNE, IN VORTAC | KEELER, MI VOR/DME | 38 | FORT WAYNE
V573 Is Amended To Delete Changeover Point
HOT SPRINGS, AR VOR/DME | LITTLE ROCK, AR VORTAC | 14 | HOT SPRINGS
Alaska V488 Is Amended To Modify Changeover Point
HOOPER BAY, AK VOR/DME | UNALAKLEET, AK VOR/DME | 91 | HOOPER BAY
§ 95.8005 Jet Routes Changeover Points J13 Is Amended To Add Changeover Point
ALBUQUERQUE, NM VORTAC | ALAMOSA, CO VORTAC | 106 | ALBUQUERQUE
J44 Is Amended To Add Changeover Point
RATTLESNAKE, NM VORTAC | ALAMOSA, CO VORTAC | 75 | RATTLESNAKE
J110 Is Amended To Add Changeover Point
RATTLESNAKE, NM VORTAC | ALAMOSA, CO VORTAC | 75 | RATTLESNAKE
J126 Is Amended To Add Changeover Point
ROGUE VALLEY, OR VORTAC | EUGENE, OR VORTAC | 59 | ROGUE VALLEY
J180 Is Amended To Modify Changeover Point
LITTLE ROCK, AR VORTAC | FORISTELL, MO VORTAC | 111 | LITTLE ROCK

[FR Doc. 2025-19693 Filed 10-28-25; 8:45 am]

BILLING CODE 4910-13-P